NUCLEAR REGULATORY COMMISSION

Sunshine Federal Register Notice

Agency Holding the Meetings: Nuclear Regulatory Commission.

Date: Week of July 20, 2009.

Place: Commissioners' Conference Room, 11555 Rockville Pike, Rockville, Maryland.

Status: Public and Closed.

Additional Items to be Considered:

Week of July 20, 2009

Thursday, July 23, 2009

1:25 p.m. Affirmation Session (Public Meeting) (Tentative).

a. Southern Nuclear Operating Co. (Vogtle Electric Generating Plant, Units 3 and 4), LBP-09-3 (Ruling on Standing and Contention Admissibility); Virginia Electric and Power Co. (North Anna Unit 3), LBP-08-15 (Ruling on Standing and Contention Admissibility) (Tentative).

b. Draft Notice and Order for Areva Enrichment Services, LLC (Tentative).

* * * * *

*The schedule for Commission meetings is subject to change on short notice. To verify the status of meetings, call (recording)—(301) 415-1292.

Contact person for more information: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: July 15, 2009.
Rochelle C. Bavol,
Office of the Secretary.

[FR Doc. E9-17260 Filed 7-16-09; 4:15 pm]

BILLING CODE 7590-01-P